DEPARTMENT OF DEFENSE

Office of the Secretary

Charter Establishment of Department of Defense Federal Advisory Committees

AGENCY: Department of Defense.

ACTION: Establishment of Federal Advisory Committee.

SUMMARY: The Department of Defense (DoD) is publishing this notice to announce that it is establishing the charter for the Defense Advisory Committee on Investigation, Prosecution, and Defense of Sexual Assault in the Armed Forces (“the Committee”).

FOR FURTHER INFORMATION CONTACT: Jim Freeman, Advisory Committee Management Officer for the Department of Defense, 703-692-5952.

SUPPLEMENTARY INFORMATION: This committee's charter is being established pursuant to section 546 of the National Defense Authorization Act for Fiscal Year 2015 (FY 2015 NDAA), as modified by section 537 of the National Defense Authorization Act for Fiscal Year 2016 (FY2016 NDAA), and in accordance with the Federal Advisory Committee Act (FACA) of 1972 (5 U.S.C., Appendix, as amended) and 41 CFR 102-3.50(a). The Committee's charter and contact information for the Committee's Designated Federal Officer (DFO) can be obtained at http://www.facadatabase.gov/.

The Committee provides the Secretary of Defense, through the General Counsel of the Department of Defense, advice on the investigation, prosecution, and defense of allegations of rape, forcible sodomy, sexual assault, and other sexual misconduct involving members of the Armed Forces. Not later than March 30 of each year, the Committee will submit a report describing the results of its activities during the preceding year to the Secretary of Defense and the Committees on Armed Services of the Senate and House of Representatives.

The Committee will be composed of no more than 20 members who have experience with the investigation, prosecution, and defense of allegations of sexual assault offenses. Members may include Federal and State prosecutors, judges, law professors, and private attorneys, but individuals serving on active duty in the Armed Forces may not be appointed to the Committee. Members who are not full-time or permanent part-time Federal officers or employees will be appointed as experts or consultants pursuant to 5 U.S.C. 3109 to serve as special government employee members. Members who are full-time or permanent part-time Federal officers or employees will serve as regular government employee members.

All members are appointed to provide advice on behalf of the Government on the basis of their best judgment without representing any particular point of view and in a manner that is free from conflict of interest. Except for reimbursement of official Committee-related travel and per diem, members serve without compensation.

The DoD, as necessary and consistent with the Committee's mission and DoD policies and procedures, may establish subcommittees, task forces, or working groups to support the Committee, and all subcommittees must operate under the provisions of FACA and the Government in the Sunshine Act. Subcommittees will not work independently of the Committee and must report all their recommendations and advice solely to the Committee for full deliberation and discussion. Subcommittees, task forces, or working groups have no authority to make decisions and recommendations, verbally or in writing, on behalf of the Committee. No subcommittee or any of its members can update or report, verbally or in writing, directly to the DoD or any Federal officers or employees. The Committee's DFO, pursuant to DoD policy, must be a full-time or permanent part-time DoD employee. The DFO or a properly approved Alternate DFO, is required to be in attendance at all Committee/subcommittee meetings for the duration of each and every meeting. The public or interested organizations may submit written statements to Committee membership about the Committee's mission and functions. Written statements may be submitted at any time or in response to the stated agenda of planned meeting of the Committee. All written statements shall be submitted to the DFO for the Committee, and this individual will ensure that the written statements are provided to the membership for their consideration.

Dated: February 18, 2016.
Aaron Siegel,
Alternate OSD Federal Register Liaison Officer, Department of Defense.

[FR Doc. 2016-03749 Filed 2-22-16; 8:45 am]

BILLING CODE 5001-06-P